DEPARTMENT OF THE INTERIOR

National Park Service

[NPS-WASO-NAGPRA-NPS0039892; PPWOCRADN0-PCU00RP14.R50000]

Notice of Inventory Completion: Santa Barbara Museum of Natural History, Santa Barbara, CA

AGENCY: National Park Service, Interior.

ACTION: Notice.

SUMMARY: In accordance with the Native American Graves Protection and Repatriation Act (NAGPRA), the Santa Barbara Museum of Natural History has completed an inventory of human remains and has determined that there is a cultural affiliation between the human remains and Indian Tribes or Native Hawaiian organizations in this notice.

DATES: Repatriation of the human remains in this notice may occur on or after May 12, 2025.

ADDRESSES: Luke Swetland, Santa Barbara Museum of Natural History, 2559 Puesta del Sol, Santa Barbara, CA 93105, telephone (805) 682-4711, email lswetland@sbnature2.org.

SUPPLEMENTARY INFORMATION: This notice is published as part of the National Park Service's administrative responsibilities under NAGPRA. The determinations in this notice are the sole responsibility of the Santa Barbara Museum of Natural History, and additional information on the determinations in this notice, including the results of consultation, can be found in its inventory or related records. The National Park Service is not responsible for the determinations in this notice.

Abstract of Information Available

Human remains representing, at least, one individual has been identified. No associated funerary objects are present. A cranium, missing the right zygomatic, teeth, and mandible, was removed from an unprovenienced location in Santa Barbara County, CA. It was collected by Howard Taylor, who owned properties in Montecito, CA and a ranch near Arroyo Grande, CA. The human remains were donated to the Museum by Chuck Carter in 2021.

Human remains representing, at least, two individuals have been identified. No associated funerary objects are present. The human remains include two human skulls and their associated mandibles. The human remains were collected or excavated from the Goleta and/or Santa Barbara regions between 1932 and 1935 by Jack Knight Green. They were donated to the Museum by Frances Green in 2015.

Human remains representing, at least, one individual has been identified. No associated funerary objects are present. The human remains are a human cranium missing the mandible. The skull was collected by a family and purported to have been “used as a teaching tool for a California history unit.” The skull was donated to the Museum by Dr. Carolyn Maguire in 2017 and had been in the possession of her late husband's family who “had a long history in Santa Barbara,” and according to the donor, “the skull is 100 years old, at least.”

Human remains representing, at least, two individuals have been identified. No associated funerary objects are present. The human remains include two partial crania lacking their mandibles. The crania were “ploughed out near an oak tree in field in San Roque tract” in the City of Santa Barbara, CA. They were donated to the Museum by Miss Josephine Ciampi in 1935.

Cultural Affiliation

Based on the information available and the results of consultation, cultural affiliation is reasonably identified by the geographical location or acquisition history of the human remains described in this notice.

Determinations

The Santa Barbara Museum of Natural History has determined that:

• The human remains described in this notice represent the physical remains of six individuals of Native American ancestry.

• There is a connection between the human remains in this notice and the Santa Ynez Band of Chumash Mission Indians of the Santa Ynez Reservation, California.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after May 12, 2025. If competing requests for repatriation are received, the Santa Barbara Museum of Natural History must determine the most appropriate requestor prior to repatriation. Requests for joint repatriation of the human remains are considered a single request and not competing requests. The Santa Barbara Museum of Natural History is responsible for sending a copy of this notice to the Indian Tribes and Native Hawaiian organizations identified in this notice.

Authority: Native American Graves Protection and Repatriation Act, 25 U.S.C. 3003, and the implementing regulations, 43 CFR 10.10.

Dated: April 1, 2025.
Melanie O'Brien,
Manager, National NAGPRA Program.

[FR Doc. 2025-06208 Filed 4-10-25; 8:45 am]

BILLING CODE 4312-52-P